FEDERAL COMMUNICATIONS COMMISSION

47 CFR Part 73

[DA 04-1651; MB Docket No. 02-331; RM-10589]

Radio Broadcasting Services; Milford, UT

AGENCY: Federal Communications Commission.

ACTION: Proposed rule; dismissal.

SUMMARY: This document dismisses the Petition for Rule Making filed by Larry Jackson requesting the allotment of Channel 288C2 at Milford, Utah, as its first local service. See 67 FR 69703, published November 19, 2002. This document also dismisses the counterproposal filed by Craig Morris proposing the allotment of Channel 289C3 at Enterprise, Utah, as its first local service, among other changes channel to various communities to accommodate the proposal at Enterprise.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 02-331, adopted June 8, 2004, and released June 10, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., Portals II, 445 12th Street, SW., Room CY-B402, Washington, DC 20554, telephone 202-863-2893, facsimile 202-863-2898. This document is not subject to the Congressional Review Act. (The Commission is, therefore, not required to submit a copy of this Report and Order to GAO, pursuant to the Congressional Review Act, see 5 U.S.C. 801(a)(1)(A), because this proposed rule was dismissed. )

Federal Communications Commission.
John A. Karousos,
Assistant Chief, Audio Division, Media Bureau.

[FR Doc. 04-14482 Filed 6-24-04; 8:45 am]

BILLING CODE 6712-01-P